NATIONAL SCIENCE FOUNDATION

Notice of the Availability of a Draft Programmatic Environmental Assessment

AGENCY: National Science Foundation.

ACTION: Notice of request for public comment on a Draft Programmatic Environmental Assessment (PEA) for the Ocean Observatories Initiative (OOI).

SUMMARY: The National Science Foundation (NSF) gives notice of the request for public comment on a Draft PEA for the OOI.

The Division of Ocean Sciences in the Directorate for Geosciences (GEO/OCE) has prepared a Draft PEA for the OOI, a multi-million dollar Major Research Equipment and Facilities Construction effort intended to put moored and cable infrastructure in discrete locations in the coastal and global ocean. The Draft PEA is available for public comment for a 30-day period.

DATES: Comments must be submitted on or before April 18, 2008.

ADDRESSES: Copies of the Draft PEA are available upon request from: Dr. Shelby Walker, National Science Foundation, Division of Ocean Sciences, 4201 Wilson Blvd., Suite 725, Arlington, VA 22230; Telephone: (703) 292-8580. The Draft PEA is also available under Additional OCE Resources at the following website: http://www.nsf.gov/div/index.jsp?div=OCE.

FOR FURTHER INFORMATION CONTACT: Dr. Shelby Walker, National Science Foundation, Division of Ocean Sciences, 4201 Wilson Blvd., Suite 725, Arlington, VA 22230. Telephone: (703) 292-8580.

SUPPLEMENTARY INFORMATION: Oceanographic research has long relied on research vessel cruises (expeditions) as the predominate means to make direct measurements of the ocean. Remote sensing (use of satellites) has greatly advanced abilities to measure ocean surface characteristics over extended periods of time. A major advancement for oceanographic research methods is the ability to make sustained, long-term, and adaptive measurements from the surface to the ocean bottom. “Ocean Observatories” are now being developed to further this goal. Building upon recent technology advances and lessons learned from prototype ocean observatories, NSF's Ocean Sciences Division (OCE) is proposing to fund the OOI, an interactive, globally distributed and integrated infrastructure that will be the backbone for the next generation of ocean sensors and resulting complex ocean studies presently unachievable. The OOI reflects a community-wide, national and international scientific planning effort and is a key NSF contribution to the broader effort to establish focused national ocean observatory capabilities through the Integrated Ocean Observing System (IOOS).

The OOI infrastructure would include cables, buoys, deployment platforms, moorings, junction boxes, electric power generation (solar, wind, fuel cell, and/or diesel), and two-way communications systems. This large-scale infrastructure would support sensors located at the sea surface, in the water column, and at or beneath the seafloor. The OOI would also support related elements, such as unified project management, data dissemination and archiving, modeling of oceanographic processes, and education and outreach activities essential to the long-term success of ocean science. It would include the first U.S. multi-node cabled observatory; fixed and relocatable coastal arrays coupled with mobile assets; and advanced buoys for interdisciplinary measurements, especially for data-limited areas of the Southern Ocean and other high-latitude locations.

The OOI design is based upon three main technical elements across global, regional, and coastal scales. At the global and coastal scales, moorings would provide locally generated power to seafloor and platform instruments and sensors and use a satellite link to shore and the Internet. Up to four Global-Scale Nodes (GSN) or buoy sites are proposed for ocean sensing in the Eastern Pacific and Atlantic oceans. The Regional-Scale Nodes (RSN) off the coast of Washington and Oregon would consist of seafloor observatories with various chemical, biological, and geological sensors linked with submarine cables to shore that provide power and Internet connectivity. Coastal-Scale Nodes (CSN) would be represented by the fixed Endurance Array, consisting of a combination of cabled nodes and stand-alone moorings, off the coast of Washington and Oregon, and the relocatable Pioneer Array off the coast of Massachusetts, consisting of a suite of stand-alone moorings. In addition, there would be an integration of mobile assets such as autonomous underwater vehicles (AUVs) and/or gliders with the GSN, RSN, and CSN observatories.

The NSF invites interested members of the public to provide written comments on this Draft PEA. Comments can be submitted to: Dr. Shelby Walker, National Science Foundation, Division of Ocean Sciences, 4201 Wilson Blvd., Suite 725, Arlington, VA 22230; Telephone: (703) 292-8580; or electronically at PEA-comments@nsf.gov.

Shelby Walker,
Associate Program Director, Ocean Technology and Interdisciplinary Coordination, Division of Ocean Sciences National Science Foundation.

[FR Doc. E8-5474 Filed 3-18-08; 8:45 am]

BILLING CODE 7555-01-M